NUCLEAR REGULATORY COMMISSION

[Docket No. PAPO-00; ASLBP No. 04-829-01-PAPO]

Atomic Safety and Licensing Board; In the Matter of U.S. Department of Energy (High Level Waste Repository: Pre-Application Matters)

May 23, 2005.

Before Administrative Judges: Thomas S. Moore, Chairman, Alex S. Karlin Alan S. Rosenthal.

Order

The Pre-License Application Presiding Officer (PAPO) Board held its second case management conference in this proceeding on May 18, 2005. The Department of Energy (DOE), the NRC Staff, the State of Nevada (State), the Nuclear Energy Institute (NEI), and the Nuclear Information and Research Service (NIRS) attended the conference. During this meeting the Board heard discussion on a written request, filed by DOE on May 12, 2005, that the Board establish uniform requirements for the retention of e-mails and other documents that constitute or may constitute documentary material as defined in 10 CFR 2.1001. DOE suggested that document retention requirements should be part of the procedures required under 10 CFR 2.1009, and that participation as a party in this proceeding requires substantial compliance with such procedures under 10 CFR 2.1012(b). DOE, the NRC Staff, the State, and NIRS participated in the discussion of this proposal.

Upon consideration of this matter, and hearing no objection from any of the participants during the May 18, 2005 conference, the Board agreed that the matter warranted further consideration and attention. The Board is concerned that, absent a uniform procedure prescribed by a case management order, some of the current participants, as well as other potential parties, might not have timely instituted documentary material retention policies or been aware of the need to adopt and follow retention policies for such material. The development and specification at this time of reasonable uniform documentary material retention procedures should enable all current participants and potential parties to avoid unnecessary burdens and expense.

Accordingly, the Board orders the participants attending the second case management conference to meet and to confer for the purpose of developing a joint proposed minimum acceptable standard of documentary material retention for this proceeding. The joint proposal shall be submitted to the Board by July 1, 2005. In the event the participants cannot agree on a joint proposal, then DOE, the NRC Staff, and the State each shall submit by that date their respective, individual proposals. All other potential parties are encouraged to participate in the meeting with DOE, the State, and the NRC Staff and to contribute to the discussion and proposed resolution of these issues. If agreement is not possible, NEI, NIRS, or any other participating potential party may submit an independent proposal to the Board by July 1, 2005. Any potential party may submit comments on the proposals of any other potential party by July 8, 2005.

At the second case management conference, counsel for DOE offered to host the meeting of the participants and potential participants. All of the participants agreed that the meeting should be held on Wednesday, June 15, 2005 at 10 a.m., EDT, in the main conference room of the law firm of Hunton & Williams (counsel for DOE), 1900 K Street, NW., 12th floor, Washington, DC. Any person desiring to participate in the meeting and discussion of this issue should provide telephone or e-mail notice, not later than 5 p.m. EDT, June 8, 2005, to counsel for DOE via Ms. Belinda Wright, telephone 804-788-8581, e-mail bwright@hunton.com. Such notice shall contain the following information: (a) Name of person desiring to attend; (b) organizational affiliation, if any; (c) daytime phone number; (d) e-mail address; (e) mailing address; and (f) statement as to whether the person intends to participate in person, or desires to participate remotely in the event that electronic facilities can be made available.

DOE, the State, NRC Staff, NEI, and NIRS are strongly encouraged, through appropriate notices on their respective web sites, and other reasonable methods, to inform the public, their stakeholders, and any other interested persons or entities of the proposal to develop uniform procedures, applicable to all potential parties, concerning the retention of e-mails and other documents.

It is so Ordered.

Dated in Rockville, Maryland, on May 23, 2005.
For the Pre-license Application Presiding Officer Board.
Thomas S. Moore,
Chairman, Administrative Judge.

[FR Doc. E5-2690 Filed 5-26-05; 8:45 am]

BILLING CODE 7590-01-P